SURFACE TRANSPORTATION BOARD

[Docket No. FD 36153]

IHR Holdings, LLC—Acquisition Exemption—Santa Teresa Capital, LLC at Santa Teresa, Dona Ana County, N.M.

IHR Holdings, LLC (IHR), a Class III carrier,¹ has filed a verified notice of exemption ² under 49 CFR 1150.41 to acquire from Santa Teresa Capital, LLC (STC), a noncarrier, approximately 4.13 miles of rail line at and near Santa Teresa Industrial Park, Santa Teresa, Dona Ana County, N.M., that extends from a point of connection to Union Pacific Railroad Company (UP) at or near milepost no. 1280 on UP's Lordsburg Subdivision to holding tracks adjacent to the industrial park and to three tracks that extend from the holding tracks into the industrial park that terminate at Strauss Road and at Industrial Drive (the Line). According to IHR, the Line does not have milepost numbers.

¹ IHR's name has been changed from Mississippi Tennessee Holdings, LLC (MTH), to IHR. IHR is a Class III rail carrier as a result of MTH's acquisition of a rail line in Mississippi Tennessee Holdings, LLC—Acquisition & Operation Exemption—Rail Line of Mississippi & Tennessee Railnet, Inc., between Houston, Miss., & Middleton, Tenn., in Chickasaw, Pontotoc, Union & Tippah Counties, Miss., & Hardeman County, Tenn., FD 34355 (STB served June 12, 2003).

² IHR filed its verified notice of exemption on October 23, 2017, and errata thereto on November 1, 2017.

IHR states that its affiliate, Santa Teresa Southern Railroad, LLC (STSR), operates over a portion of the Line. See Santa Teresa S. R.R.—Operation Exemption—Rail Line of Verde Logistics R.R. at Santa Teresa, Dona Ana Cty., N.M., FD 35599 (STB served Mar. 8, 2012).

According to IHR, it has reached an agreement with STC to acquire the Line. IHR states that the operator of the property will be STSR.

IHR certifies that, as a result of the proposed transaction, its projected annual revenues will not result in its becoming a Class I or Class II rail carrier and will not exceed $5 million. IHR also certifies that the proposed transaction does not involve any interchange commitments.

IHR states that the transaction will be consummated no sooner than the effective date of this notice. The earliest this transaction may be consummated is November 22, 2017 (30 days after the verified notice of exemption was filed).

According to IHR, this action is categorically excluded from environmental review under 49 CFR 1105.6(c) and from historic review under 49 CFR 1105.8(b).

If the verified notice contains false or misleading information, the exemption is void ab initio. Petitions to revoke the exemption under 49 U.S.C. 10502(d) may be filed at any time. The filing of a petition to revoke will not automatically stay the effectiveness of the exemption. Petitions for stay must be filed no later than November 15, 2017 (at least seven days before the exemption becomes effective).

An original and 10 copies of all pleadings, referring to Docket No. FD 36153, must be filed with the Surface Transportation Board, 395 E Street SW., Washington, DC 20423-0001. In addition, a copy of each pleading must be served on Thomas F. McFarland, Thomas F. McFarland, P.C., 208 South LaSalle Street, Suite 1666, Chicago, IL 60604-1228.

Board decisions and notices are available on our Web site at “WWW.STB.GOV.”

Decided: November 2, 2017.
By the Board, Scott M. Zimmerman, Acting Director, Office of Proceedings.
Tammy Lowery,
Clearance Clerk.

[FR Doc. 2017-24304 Filed 11-7-17; 8:45 am]

BILLING CODE 4915-01-P